ENVIRONMENTAL PROTECTION AGENCY

[ER-FRL-6687-2]

Environmental Impacts Statements; Notice of Availability

Responsible Agency: Office of Federal Activities, General Information (202) 564-7167 or http://www.epa.gov/compliance/nepa/.

Weekly receipt of Environmental Impact Statements

Filed 05/14/2007 through 05/18/2007

Pursuant to 40 CFR 1506.9.

EIS No. 20070194, Final EIS, AFS, ID, Payette National Forest Travel Management Plan, Designate a System of Roads, Trails and Areas Open to Motorized and Non-Motorized Use, Implementation, Adam, Washington, Idaho, Valley Counties, ID, Wait Period Ends: 06/25/2007, Contact:

Bill Gamble 208-253-0100.

EIS No. 20070195, Final EIS, AFS, AK, Traitors Cove Timber Sale Project, Timber Harvest and Road Construction, Implementation, Revillagigedo Island, Ketchikan-Misty Fiords Ranger District, Tongass National Forest, AK, Wait Period Ends: 06/25/2007, Contact: Rob Reeck 907-228-4114.

EIS No. 20070196, Draft EIS, AFS, AK, Angoon Hydroeletric Project, Construction and Operation, Special-Use-Authorization, Thayer Creek, Admiralty Island National Monument, Tongass National Forest, AK, Comment Period Ends: 07/09/2007, Contact: Kathy Rodriquez 907-790-7472.

EIS No. 20070197, Revised Draft EIS, AFS, CA, Phoenix Project, Proposes to Use a Combination of Contract and Forest Service Crew to Treat Poor Forest Health and High Fire Hazard Conditions, Develop a Network Defensible Fuel Profile Zones (DFPZs), Sierraville Ranger District, Tahoe National Forest, Sierra and Nevada Counties, CA, Comment Period Ends: 07/09/2007, Contact: Jeff Leach 530-994-3401 Ext 6680.

EIS No. 20070198, Final EIS, HUD, WA, Westpark Redevelopment Master Plan, Redevelop of 82-acre Site to create a Mixed-Use, Mixed-Income Pedestrian Oriented Urban Community, Funding and U.S. Army COE Section 10 Permit, City of Bremerton, Kitsap County, WA, Wait Period Ends: 06/25/2007, Contact: Andrea Spencer 360-473-5283.

EIS No. 20070199, Final EIS, FHW, NC, Wilmington Bypass Transportation Improvements, U.S. 17 to U.S. 421, Funding, COE Section 10 and 404 Permits and U.S. Coast Guard Bridge Permit Issuance, Brunswick and New Hanover Counties, NC, Wait Period Ends: 06/25/2007 Contact: John F. Sullivan 919-856-4346-Ext 122.

EIS No. 20070200, Draft EIS, AFS, WI, Fishel Vegetation and Transportation Management Project, To Implement Land Management Activities, Eagle River-Florence Ranger District, Chequamegor-Nicolet National Forest, Forest and Vilas Counties, WI, Comment Period Ends: 07/09/2007, Contact:Lois Pfeffer 559-359-7023.

EIS No. 20070201, Final EIS, FHW, 00, U.S. 59—Amelia Earhart Memorial Bridge over the Missouri River, Construction from Atchison, Kansas to U.S. 59/State Route 45 Intersection, U.S. Coast Guard Section 9 Permit and U.S. Army COE Section 10 and 404 Permits, Atchison, KS and Buchanan County, MO, Wait Period Ends: 06/25/2007, Contact: John Knowles 785-271-2448 Ext 211.

EIS No. 20070202, Final EIS, AFS, ID, South Fork Salmon River Subbasin Noxious and Invasive Weed Management Program, Implementation, Krassel and McCall Ranger Districts, Payette National Forest and Cascade Ranger District, Valley and Idaho Counties, ID, Wait Period Ends: 06/25/2007, Contact: Dan Anderson 208-634-0435.

EIS No. 20070203, Final EIS, AFS, CO, Robin Redbreast Unpatented Lode Claim Mining Plan of Operations, Implementation, U.S. Army COE Section 404 Permit, Located above the Middle Fork of the Cimarron River within the Uncompahgre Wilderness, Ouray Ranger District, Grand Mesa, Uncompahgre and Gunnison National Forests, Hinsdale County, CO, Wait Period Ends: 06/25/2007, Contact: Jeff Burch 970-874-6649.

EIS No. 20070204, Final EIS, FRC, CA, Oroville Facilities Project, Issuing an New Federal License to Continue Hydroelectric Power (FERC No. 2100), Feather River, Sierra Nevada, Butte County, CA, Wait Period Ends: 06/25/2007, Contact: James Fargo 202-502-6095.

Amended Notices

EIS No. 20070158, Final EIS, FAA, AK, Juneau International Airport, Proposed Development Activities to Enhance Operations Safety, Facilitate Aircraft Alignment, U.S. Army COE Section 404 Permit, City and Borough of Juneau, AK, Wait Period Ends: 06/11/2007, Contact: Patti Sullivan 907-271-5454.

Revision to FR Notice Published 04/27/2007: Correction to Wait Period from 05/29/2007 to 06/11/2007.

EIS No. 20070168, Draft EIS, FTA, CA, Alameda-Contra Transit (AC Transit) East Bay Bus Rapid Transit Project, Improve Transit Serve in cities of Berkeley, Oakland and San Leandro, San Francisco Bay Area, Alameda County, CA, Comment Period Ends: 07/03/2007, Contact: Lucinda Eagle 415-744-3133.

Revision of FR Notice Published 05/04/2007: Extending Comment Period from 6/18/2007 to 07/03/2007.

Dated: 05/22/2007.
Ken Mittelholtz,
Environmental Protection Specialist, NEPA Compliance Division, Office of Federal Activities.

[FR Doc. E7-10131 Filed 5-24-07; 8:45 am]

BILLING CODE 6560-50-P